NUCLEAR REGULATORY COMMISSION

[Docket No. 030-33507]

Research Medical Center Environmental Assessment and Finding of No Significant Impact; Exemption

The U.S. Nuclear Regulatory Commission is authorizing Research Medical Center, License No. 24-17998-02, an exemption to 10 CFR 35.615(f)(3), to permit the licensee to have a neurosurgeon physically present in place of an authorized user during the use of its gamma stereotactic radiosurgery unit.

Environmental Assessment

Identification of the Proposed Action

Research Medical Center has a United States Nuclear Regulatory Commission (NRC) license (License No. 24-17998-02) that authorizes the use of a gamma stereotactic radiosurgery (GSR) unit. The licensee has requested, in a letter dated September 20, 2002, that the NRC grant an exemption to 10 CFR 35.615(f)(3), which requires an authorized user and authorized medical physicist to be physically present throughout all patient treatments with the GSR unit. This requirement became effective on October 24, 2002.

Research Medical Center has requested the exemption to allow a neurosurgeon to replace an authorized user if the following criteria is met: the neurosurgeon has received at least one full week of training at a formal training course for GSRs, including operation and emergency response; the neurosurgeon is working under the authorized user's supervision, and the neurosurgeon will be physically present in place of the authorized user once the treatment has been initiated. During patient treatment with the GSR unit, the authorized user will be immediately available and the substitution will not average more than 50% of the time. The authorized medical physicist will be present throughout all patient treatments.

Need for the Proposed Action

The exemption is needed so that Research Medical Center can continue to provide optimum medical treatment to its patients. The licensee indicates that without the exemption to 10 CFR 35.516(f)(3), GSR procedures would have to be periodically interrupted whenever it would be necessary to call the authorized user to attend to other responsibilities in the Radiation Oncology Department, which would not be conducive to timely completion of the procedure. The licensee states further that neurosurgeons are in large part responsible for the care of patients undergoing GSR, have completed the same course in GSR as the authorized users and are fully capable of handling any medical emergency, and are present during at least part of the treatment, and that the Radiation Oncology Department is separated from the GSR by a short enough distance such that an authorized user could respond quickly if necessary.

Environmental Impacts of the Proposed Action

The GSR sources are sealed sources and no material will be released into the environment. All the sources are contained within the unit, as verified by periodic spot checks performed by the licensee. The proposed action does not increase public radiation exposure. There will be no impact on the environment as a result of the proposed action.

Alternatives to the Proposed Action

As required by section 102(2)(E) of NEPA (42 U.S.C. 4322(2)(E)), possible alternatives to the final action have been considered. The alternatives are: (1) To deny the exemption request or (2) to require the licensee to provide another alternative method as a basis for granting the exemption. The alternative options would not produce a gain in protecting the human environment, and would negatively impact the licensee implementation of medical care to patients.

Alternative Use of Resources

No alternative use of resources was considered due to the reasons stated above.

Agencies and Persons Consulted

This proposed action was discussed with the State of Missouri.

Identification of Source Used

Letter from Research Medical Center, to U.S. Nuclear Regulatory Commission, Region III, dated September 20, 2002.

Finding of No Significant Impact

Based on the above environmental assessment, the Commission has concluded that the proposed action will not have a significant effect on the quality of the human environment. Accordingly, the NRC has determined that a finding of no significant impact is appropriate and preparation of an environmental impact statement is not warranted.

The licensee's letter is available for inspection, and/or copying for a fee, in the Region III Public Document Room, 801 Warrensville Road, Lisle, IL 60532. The document is available electronically for public inspection from the Publically Available Records (PARS) component of NRC's Documents Access and Management System (ADAMS), accession number ML030220477. ADAMS is accessible from the NRC Web site at http://www.nrc.gov/reading-rm/adams.html.

Dated in Rockville, Maryland, this 22nd day of January, 2003.
For the Nuclear Regulatory Commission.
Frederick Brown,
Section Chief, Material Safety and Inspection Branch, Division of Industrial and Medical Nuclear Safety, Office of Nuclear Material Safety and Safeguards.

[FR Doc. 03-1860 Filed 1-27-03; 8:45 am]

BILLING CODE 7590-01-P